DEPARTMENT OF LABOR

Employment and Training Administration

[TA-W-39,632 & NAFTA-5059, et al.]

JPS Apparel Fabrics Corporation Greenville, SC, et al.; Notice of Determination on Reconsideration

On October 10, 2001, the Department issued a Notice of Affirmative Determination Regarding Application for Reconsideration for TAA and NAFTA-TAA applicable to workers and former workers of the subject firm. The notice was published in the Federal Register on October 30, 2001 (66 FR 54785).

The initial TAA and NAFTA-TAA petition investigations for workers at JPS Apparel Corporation, Greenville, South Carolina (TA-W-39,632 & NAFTA-5059), South Boston, Virginia (TA-W-39,632A & NAFTA-5059A), New York, New York (TA-W-39,632B & NAFTA-5059B), and Laurens, South Carolina (TA-W-39,632C & NAFTA-5059C) were denied based on the finding that the subject firm and customers of the subject firm did not increase their import (including from Canada and Mexico) purchases of spun filament greige woven apparel fabrics during the relevant period.

The company supplied an additional list of customers that they believed were importing spun filament greige woven apparel fabrics.

On reconsideration, the Department conducted a survey of JPS Apparel Corporation's additional customers (accounting for a meaningful portion of the subject firms customer base) regarding their purchases of spun filament greige woven apparel fabrics during 1999, 2000 and January through July 2001. The survey revealed that some respondents increased their reliance on imported (no meaningful imports from Canada or Mexico) spun filament greige woven apparel fabrics, contributing to the layoffs at the subject firm during the relevant period.

On reconsideration the Department further examined U.S. import data that was not available during the initial investigation. The import data shows that selected fabrics like or directly competitive with what the subject plant produced increased significantly during the relevant period. The industry data also depicts a meaningful increase in the import to shipment ratio of these products during the relevant period. However, aggregate U.S. imports from Canada and/or Mexico of selected fabrics like and directly competitive with what the subject plant produced remained relatively stable during the relevant period. The imports from Canada and/or Mexico are relatively low in relation to total aggregate U.S. imports.

Conclusion

After careful review of the additional facts obtained on reconsideration, I conclude that increased imports of articles like or directly competitive with spun and filament greige woven apparel fabrics, contributed importantly to the decline in sales or production and to the total or partial separation of workers of JPS Apparel Corporation, Greenville, South Carolina (TA-W-39,632), South Boston, Virginia (TA-W-39,632A), New York, New York (TA-W-39,632B), and Laurens, South Carolina (TA-W-39,632C). In accordance with the provisions of the Act, I make the following revised determination:

All workers of JPS Apparel Corporation, Greenville, South Carolina (TA-W-39,632), South Boston, Virginia (TA-W-39,632A), New York, New York (TA-W-39,632B), and Laurens, South Carolina (TA-W-39,632C) who became totally or partially separated from employment on or after July 16, 2000, through two years from the date of this issuance, are eligible to apply for adjustment assistance under Section 223 of the Trade Act of 1974; and

After reconsideration, I affirm the original notice of negative determination of eligibility to apply for NAFTA-TAA under Section 250 of the Trade Act of 1974 for workers and former workers of JPS Apparel Corporation, Greenville, South Carolina (NAFTA-5059), South Boston, Virginia (NAFTA-5059A), New York, New York (NAFTA-5059B), and Laurens, South Carolina (NAFTA-5059C).

Signed in Washington, DC this 30th day of November 2001.
Edward A. Tomchick,
Director, Division of Trade Adjustment Assistance.

[FR Doc. 01-31148 Filed 12-17-01; 8:45 am]

BILLING CODE 4510-30-M